DEPARTMENT OF COMMERCE

National Oceanic and Atmospheric Administration

Evaluation of Coastal Zone Management Programs

AGENCY: Office of Ocean and Coastal Resource Management, National Ocean Service, National Oceanic and Atmospheric Administration (NOAA), DOC.

ACTION: Notice of intent to evaluate.

SUMMARY: The NOAA Office of Ocean and Coastal Resource Management (OCRM) announces its intent to evaluate the performance of the Commonwealth of the Northern Mariana Islands Coastal Management Program, the California San Francisco Bay Conservation and Development Commission/State Coastal Conservancy Coastal Program, and the Puerto Rico Coastal Management Program.

These evaluations will be conducted pursuant to section 312 of the Coastal Zone Management Act of 1972 (CZMA), as amended and regulations at 15 CFR Part 923.

The CZMA requires continuing review of the performance of states with respect to coastal program implementation. Evaluation of Coastal Zone Management Programs require findings concerning the extent to which a state has met the national objectives, adhered to its coastal program document approved by the Secretary of Commerce, and adhered to the terms of financial assistance awards funded under the CZMA.

The evaluations will include a site visit, consideration of public comments, and consultations with interested Federal, State, and local agencies and members of the public. Public meetings will be held as part of the site visits.

Notice is hereby given of the dates of the site visits for the listed evaluations, and the dates, local times, and locations of the public meetings during the site visits.

The Commonwealth of the Northern Mariana Islands Coastal Management Program evaluation site visit will be from February 26-March 9, 2001. One public meeting will be held during the week. The public meeting will be held on Tuesday, March 6, 2001, at 5:30 p.m., at the Joeten Kiyu Library, Saipan.

The California San Francisco Bay Conservation and Development Commission/State Coastal Conservancy Coastal Program site visit will be from March 5-9, 2001. One public meeting will be held during the week. The public meeting will be held on Wednesday, March 7, 2001, from 4-6 p.m., in the McAteer-Petris Room, at the BCDC offices, 50 California Street, Suite 2600, San Francisco, California.

The Puerto Rico Coastal Management Program evaluation site visit will be from March 12-16, 2001. One public meeting will be held during the week. The public meeting will be held on Tuesday, March 13, 2001, at 6 p.m., at The Department of Natural and Environmental Resources Auditorium, Avenue Munoz Rivera, Stop 3½, San Juan, Puerto Rico.

Copies of States' most recent performance reports, as well as OCRM's notifications and supplemental request letters to the States, are available upon request from OCRM. Written comments from interested parties regarding these Programs are encouraged and will be accepted until 15 days after the public meeting. Please direct written comments to Margo E. Jackson, Deputy Director, Office of Ocean and Coastal Resource Management, NOS/NOAA, 1305 East-West Highway, 10th Floor, Silver Spring, Maryland 20910. When the evaluations are completed, OCRM will place a notice in the Federal Register announcing the availability of the Final Evaluation Findings.

FOR FURTHER INFORMATION CONTACT: Margo E. Jackson, Deputy Director, Office of Ocean and Coastal Resource Management, NOS/NOAA, 1305 East-West Highway, Silver Spring, Maryland 20910, (301) 713-3155, Extension 114.

(Federal Domestic Assistance Catalog 11.419 Coastal Zone Management Program Administration)

Dated: January 10, 2001.
Capt. Ted I. Lillestolen,
Deputy Assistant Administrator for Ocean Services and Coastal Zone Management.

[FR Doc. 01-1525 Filed 1-17-01; 8:45 am]

BILLING CODE 3510-08-M